INTERNATIONAL TRADE COMMISSION

[Investigation No. 337-TA-1201]

Certain Liquid Crystal Display Devices, Components Thereof, and Products Containing the Same; Commission Determination Not to Review an Initial Determination Terminating the Investigation in Its Entirety Based on a Settlement Agreement; Termination of the Investigation

AGENCY: U.S. International Trade Commission.

ACTION: Notice.

SUMMARY: Notice is hereby given that the U.S. International Trade Commission has determined not to review an initial determination (“ID”) (Order No. 6) of the presiding administrative law judge (“ALJ”) terminating the investigation as to all respondents based on a settlement agreement. The investigation is terminated.

FOR FURTHER INFORMATION CONTACT: Clint Gerdine, Esq., Office of the General Counsel, U.S. International Trade Commission, 500 E Street SW, Washington, DC 20436, telephone (202) 708-2310. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone 202-205-1810.

SUPPLEMENTARY INFORMATION: The Commission instituted this investigation on May 27, 2020, based on a complaint filed on behalf of Sharp Corporation (“Sharp”) of Osaka, Japan and Sharp Electronics Corporation of Montvale, New Jersey (collectively, “Complainants”). 85 FR 31807-08 (May 27, 2020). The complaint, as supplemented, alleges violations of section 337 of the Tariff Act of 1930, as amended, 19 U.S.C. 1337, based upon the importation into the United States, the sale for importation, and the sale within the United States after importation of certain liquid crystal display devices, components thereof, and products containing the same by reason of infringement of certain claims of U.S. Patent Nos. 7,245,329; 7,372,533; 8,022,912; 8,451,204; and 8,847,863. The Commission's notice of investigation names as respondents Vizio Inc. of Irvine, California; Xianyang CaiHong Optoelectronics Technology Co., Ltd. (“Xianyang”) of Shaanxi, China; TPV Technology, Ltd. of Kowloon, Hong Kong; TPV Display Technology (Xiamen) Co., Ltd. of Fujian, China; TPV International (USA), Inc. of Austin, Texas; Trend Smart America, Ltd. of Lake Forest, California; and Trend Smart CE Mexico S.R.L. De D.V. of Baja, California (collectively, “Respondents”). The Office of Unfair Import Investigations is not participating in the investigation.

On July 27, 2020, Complainants and Respondents jointly moved to terminate the investigation based on a patent license agreement between Sharp and Xianyang that resolves all issues as to all Respondents in the investigation.

On July 29, 2020, the ALJ issued the subject ID (Order No. 6), granting the joint motion to terminate the investigation in its entirety based on the patent license agreement. The ID finds that the motion for termination satisfied Commission Rules 210.21(a)(2) and (b)(1) (19 CFR 210.21(a)(2), (b)(1)) and that termination of the investigation is not contrary to the public interest. No party petitioned for review.

The Commission has determined not to review the subject ID. The investigation is terminated.

The Commission vote for this determination took place on August 12, 2020.

The authority for the Commission's determination is contained in section 337 of the Tariff Act of 1930, as amended, 19 U.S.C. 1337, and in Part 210 of the Commission's Rules of Practice and Procedure, 19 CFR part 210.

By order of the Commission.
Issued: August 12, 2020.
Lisa Barton,
Secretary to the Commission.

[FR Doc. 2020-17971 Filed 8-17-20; 8:45 am]

BILLING CODE 7020-02-P